DEPARTMENT OF HEALTH AND HUMAN SERVICES

Health Resources and Services Administration

Advisory Commission on Childhood Vaccines; Notice of Meeting

AGENCY: Health Resources and Services Administration, HHS.

ACTION: Notice; amendment.

SUMMARY: The Health Resources and Services Administration is amending a notice that appeared in the Federal Register of August 22, 2005 (70 FR 48962-48963) announcing an Advisory Commission on Childhood Vaccines meeting on September 14, 2005. The document announced that the public can join the meeting by attending in person or by audio conference call. The meeting will now be held by audio conference call only. This document amends the notice by changing the place of the meeting.

FOR FURTHER INFORMATION CONTACT: Ms. Cheryl Lee at 301-443-2124 or e-mail clee@hrsa.gov.

SUPPLEMENTARY INFORMATION: In FR Doc. 05-16502, beginning on page 48962 in the Federal Register of Monday, August 22, 2005, make the following amendment on page 48963 in the third paragraph: Change place of meeting to Audio Conference Call.

Dated: August 25, 2005.
Tina M. Cheatham,
Director, Division of Policy Review and Coordination.

[FR Doc. 05-17379 Filed 8-31-05; 8:45 am]

BILLING CODE 4165-15-P